ENVIRONMENTAL PROTECTION AGENCY

[EPA-HQ-OPP-2006-0936; FRL-8121-5]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before June 8, 2007.

ADDRESSES: Submit your comments, identified by docket identification (ID) number EPA-HQ-OPP-2006-0936 and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP number | Docket ID number
PP 6F7160 | EPA-HQ-OPP-2007-0104
PP 8F5000 | EPA-HQ-OPP-2007-0146
PP 8F5025 | EPA-HQ-OPP-2007-0146
PP 9F3776 | EPA-HQ-OPP-2007-0146
PP 6F7105 | EPA-HQ-OPP-2007-0214
PP 7F7185 | EPA-HQ-OPP-2007-0221
PP 7F7180 | EPA-HQ-OPP-2007-0226
PP 6E7046 | EPA-HQ-OPP-2007-0145
PP OF2348 | EPA-HQ-OPP-2007-0146
PP 3F4179 | EPA-HQ-OPP-2007-0146
PP 6F7146 | EPA-HQ-OPP-2007-0147
PP 6F7136 | EPA-HQ-OPP-2007-0219

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

New Tolerance

1. PP 6F7160. (Docket ID number EPA-HQ-OPP-2007-0104). Bayer CropScience, 2 T.W. Alexander Drive, P.O. Box 12014, Research Triangle Park, NC 27709, proposes to establish a tolerance for residues of the insecticide cyfluthrin, cyano (4-fluoro-3-phenoxyphenyl)methyl-3-(2,2-dichloroethenyl)-2,2-dimethyl-cyclopropanecarboxylate in or on food commodities beet, sugar, roots at 0.09 parts per million (ppm) and in beet, sugar, dried pulp at 11.0 ppm. Adequate analytical methodology using gas chromatography/electron microscopy (GC/EC) detection is available for enforcement purposes. Contact: Olga Odiott, telephone number: (703) 308-9369; e-mail address: odiott.olga@epa.gov.

2. PP 8F5000. (Docket ID number EPA-HQ-OPP-2007-0146). Monsanto Company, 1300 “I” St., NW., Suite 405 East, Washington, DC 20005, proposes to establish a tolerance for residues of the herbicide alachlor, [2-chloro-2',6'-diethyl-N-(methoxymethyl) acetanilide] and its metabolites which can be converted to 2,6-diethylaniline (DEA) or 2-ethyl-6-(1-hydroxyethyl)aniline (HEEA) upon basic hydrolysis, calculated as alachlor, in or on food commodities cotton, gin byproducts at 0.7 ppm; cotton, undelinted seed at 0.03 ppm; sunflower, seed at 2.5 ppm; and in the processed commodity sunflower, seed meal at 3.4 ppm. An adequate enforcement method for residues of alachlor in crops has been approved. Alachlor, and its metabolites are hydrolyzed to either DEA or HEEA which are determined by high performance liquid chromatography-oxidative coulometric electrochemical detector (HPLC-OCED) and expressed as alachlor. Contact: Vickie Walters, telephone number: (703) 305-5704; e-mail address: walters.vickie@epa.gov.

3. PP 8F5025. (Docket ID number EPA-HQ-OPP-2007-0146). Monsanto Company, 1300 “I” St., NW., Suite 405 East, Washington, DC 20005, proposes to establish a tolerance for residues of the herbicide alachlor, [2-chloro-2',6'-diethyl-N-(methoxymethyl) acetanilide] and its metabolites which can be converted to DEA or HEEA upon basic hydrolysis, calculated as alachlor, in or on food commodities grain, cereal group 15, except corn, rice and sorghum at 0.05 ppm; grain, cereal, forage, fodder, and straw, group 16, except corn, rice and sorghum forage at 0.6 ppm; hay and straw at 0.8 ppm; and nongrass animal feed, crop group 18, forage at 1.4 ppm and hay at 1.2 ppm. An adequate enforcement method for residues of alachlor in crops has been approved. Alachlor, and its metabolites are hydrolyzed to either DEA or HEEA which are determined by HPLC-OCED and expressed as alachlor. Contact: Vickie Walters, telephone number: (703) 305-5704; e-mail address: walters.vickie@epa.gov.

4. PP 9F3776. (Docket ID number EPA-HQ-OPP-2007-0146). Monsanto Company, 1300 “I” St., NW., Suite 405 East, Washington, DC 20005, proposes to establish a tolerance for residues of the herbicide alachlor, [2-chloro-2',6'-diethyl-N-(methoxymethyl) acetanilide] and its metabolites which can be converted to DEA or HEEA upon basic hydrolysis, calculated as alachlor, in or on food commodity soybean at 1.0 ppm. An adequate enforcement method for residues of alachlor in crops has been approved. Alachlor, and its metabolites are hydrolyzed to either DEA or HEEA which are determined by HPLC-OCED and expressed as alachlor. Contact: Vickie Walters, telephone number: (703) 305-5704; e-mail address: walters.vickie@epa.gov.

5. PP 6F7105. (Docket ID number EPA-HQ-OPP-2007-0214). BASF Corporation, P.O. Box 13528, Research Triangle Park, NC 27709, proposes to establish a tolerance for residues of the fungicide pyraclostrobin, carbamic acid [2-[[[1-(4-chlorophenyl)-1H-pyrazol-3-yl]oxy]methyl]phenyl]methoxy-, methyl ester and its metabolite methyl-N-[[[1-(4-chlorophenyl) pyrazol-3-yl]oxy]o-tolyl] carbamate (BF 500-3); expressed as parent compound in or on food commodities oat, grain at 1.0 ppm; oat, hay at 17.0 ppm; oat, straw at 17.0 ppm; and oilseed, group at 0.4 ppm. In plants, the method of analysis is aqueous organic solvent extraction, column clean-up and quantitation by liquid chromatography with tandem mass spectrometry (LC/MS/MS). In animals, the method of analysis involves base hydrolysis, organic extraction, column clean-up and quantitation by LC/MS/MS or derivatization (methylation) followed by quantitation by GC/MS. Contact: John Bazuin, telephone number: (703) 305-7381; e-mail address: bazuin.john@epa.gov.

6. PP 7F7185. (Docket ID number EPA-HQ-OPP-2007-0221). AGRIPHAR S.A., c/o CERES International LLC, 1087 Heartsease Dr., West Chester, PA 19382, proposes to establish a tolerance for residues of the fungicide dodine, (dodecylguanidine acetate) in or on food commodities banana at 0.5 ppm and peanut at 0.03 ppm. An adequate enforcement method using GC with mass selective detection ((MSD), Method 45137) is available for determining dodine residues in or on plant commodities. Concerning bananas and peanuts, a method using LC/MS/MS; METH 1595.02 after the samples were extracted with methanol, has been submitted to the EPA. The LOQ = 0.01 ppm was taken as the lowest level validated by this method. Contact: Mary Waller, telephone number: (703) 305-1825; e-mail address: waller.mary@epa.gov.

7. PP 7F7180. (Docket ID number EPA-HQ-OPP-2007-0226). Chemtura USA Corporation, 199 Benson Rd., Middlebury, CT 06749, proposes to establish a tolerance for residues of the fungicide ipconazole, (2-[(4-chlorophenyl)methyl]-5-(1-methylethyl)-1-(1H-1,2,4-triazole-1-ylmethyl)cyclopentanol) from the treatment of seed prior to planting in or on food commodities cereal grains (except rice), group 15; forage, fodder and straw of cereal grains (except rice), group 16; cotton; peanut; soybean; dry pea and bean (shelled) at 0.01 ppm. Analytical methods have been developed, validated (including radiovalidation), and independently validated for the determination of ipconazole, triazolylalanine, triazolylacetic acid, and triazolylpyruvate in wheat forage, hay, straw, and grain, and in corn forage, cobs and straw using LC/MS/MS. The LOQ of 0.01 ppm for each analyte in each matrix was determined as the lowest level validated. Analytical methods have also been validated and independently validated in peanut nutmeat for the determination of ipconazole, triazolylalanine, triazolylacetic acid, triazolylpyruvate, and triazole in peanut nutmeat using LC/MS/MS, with an LOQ of 0.01 ppm for ipconazole, and 0.025 ppm for its metabolites. Contact: Tawanda Spears, telephone number: (703) 308-8050; e-mail address: spears.tawanda@epa.gov.

Amendment to Existing Tolerance

1. PP 6E7046. (Docket ID number EPA-HQ-OPP-2007-0145). BASF Corporation, P.O. Box 13528, Research Triangle Park, NC 27709, proposes to amend the tolerances in 40 CFR 180.573 for residues of the herbicide tepraloxydim, (2-[1-[[[(2E)-3-chloro-2-propenyl]oxy]imino]propyl]-3-hydroxy-5-(tetrahydro-2H-pyran-4-yl)-cyclohexene-1-one) and its metabolites converted to GP (3-(tetrahydropyran-4-yl)pentane-1,5-dioic acid) and OH-GP (3-hydroxy-3-(tetrahydropyran-4-yl)pentane-1,5-dioic acid), calculated as tepraloxydim in or on the imported raw food commodities dry pea, seed; flax, seed; and lentils at 0.1 ppm. The analytical method involves extraction, concentration, precipitation, centrifugation/filtration, oxidation, partition, and clean-up. Samples are then analyzed by GC-MS (selected ion monitoring). The LOQ is 0.05 ppm for each analyte, parent and metabolite. Contact: Vickie Walters, telephone number: (703) 305-5704; e-mail address: walters.vickie@epa.gov.

2. PP 0F2348. (Docket ID number EPA-HQ-OPP-2007-0146). Monsanto Company, 1300 “I” St., NW., Suite 405 East, Washington, DC 20005, as a requirement of the Alachlor Reregistration Eligibility Decision (RED), proposes to amend the 40 CFR 180.249 (a) by increasing the tolerances for the herbicide alachlor, [2-chloro-2',6'-diethyl-N-(methoxymethyl) acetanilide] and its metabolites which can be converted to DEA or HEEA upon basic hydrolysis, calculated as alachlor, in or on the food commodities corn, fodder, and corn, forage at 2.0 ppm. An adequate enforcement method for residues of alachlor in crops has been approved. Alachlor, and its metabolites are hydrolyzed to either DEA or HEEA which are determined by HPLC-OCED and expressed as alachlor. Contact: Vickie Walters, telephone number: (703) 305-5704; e-mail address: walters.vickie@epa.gov.

3. PP 3F4179. (Docket ID number EPA-HQ-OPP-2007-0146). Monsanto Company, 1300 “I” St., NW., Suite 405 East, Washington, DC 20005, proposes to amend the tolerances in 40 CFR 180.249 (a) for residues of the herbicide alachlor, [2-chloro-2',6'-diethyl-N-(methoxymethyl) acetanilide] and its metabolites which can be converted to DEA or HEEA upon basic hydrolysis, calculated as alachlor, in or on the food commodities beans, dry and beans, succulent lima at 0.1 ppm; cowpea, forage and cowpea, hay at 5.0 ppm. Current tolerances for bean, forage and bean, hay at 0.2 ppm are to be revoked as these are no longer significant animal feed commodities. An adequate enforcement method for residues of alachlor in crops has been approved. Alachlor, and its metabolites are hydrolyzed to either DEA or HEEA which are determined HPLC-OCED and expressed as alachlor. Contact: Vickie Walters, telephone number: (703) 305-5704; e-mail address: walters.vickie@epa.gov.

4. PP 6F7146. (Docket ID number EPA-HQ-OPP-2007-0147). E. I. du Pont de Nemours and Company, DuPont Crop Protection, Laurel Run Plaza, P.O. Box 80, Newark, DE 19714-0030, proposes to amend the tolerances in 40 CFR 180.364 for the combined residues of the herbicide glyphosate, [N-(phosphonomethyl)glycine] and its metabolite N-acetylglyphosate [N-acetyl-N-(phosphonomethyl)glycine resulting from the application of glyphosate, the isopropylamine salt of glyphosate, the ethanolamine salt of glyphosate, the ammonium salt of glyphosate, and the potassium salt of glyphosate to Optimum(tm) GAT(tm) soybeans in or on the food commodities cattle, kidney; cattle; liver; egg; goat, kidney; goat, liver; hog, kidney; hog, liver; horse, kidney; horse, liver; poultry, meat; poultry, meat byproducts; sheep, kidney, sheep, liver; soybean, seed; soybean, forage; soybean, hay, soybean, hulls; and soybean aspirated grain fractions at levels already established for glyphosate alone. An analytical method is available for the determination of glyphosate and metabolite residues in transgenic crop and crop fraction matrices. N-acetylglyphosate is a metabolite associated with Optimum(tm)GAT(tm)soybean crops containing the glyphosate N-acetyltransferase (gat) enzyme. The method target LOQ in each matrix examined was 0.050 millogram/kilogram (mg/kg) ppm. The method was validated at 0.050 mg/kg and 0.50 mg/kg. Contact: Vickie Walters, telephone number: (703) 305-5704; e-mail address: walters.vickie@epa.gov.

5. PP 6F7136. (Docket ID number EPA-HQ-OPP-2007-0219). E. I. du Pont de Nemours and Company, DuPont Crop Protection, Laurel Run Plaza, P.O. Box 30, Newark, DE 19714-0030, proposes to amend the tolerances in 40 CFR 180.303 for residues of the insecticide oxamyl (methyl N-N-dimethyl-N-[(methylcarbamyl)-oxy]-1-thiooxamimidate and its oxime metabolite methyl N,N-dimethyl-N-hydroxy-1-thiooxaminimidate in or on the food commodities beets, sugar, roots at 0.010 ppm; beets, sugar, tops at 0.20 ppm; and beets, sugar, molasses at 0.030 ppm. Adequate methods are available for data collection and tolerance enforcement for plant and animal commodities. The LOQ is approximately 0.02 ppm. The Pesticide Analytical Manual (PAM) volume II, lists a gas liquid chromatography (GLC) method with flame photometric detection (sulfur mode), Method I, for the enforcement of tolerances for plant and animal commodities. Contact: Thomas C. Harris, telephone number: (703) 308-9423; e-mail address: harris.thomas@epa.gov.

List of Subjects

Environmental protection, Agricultural commodities, Feed additives, Food additives, Pesticides and pests, Reporting and recordkeeping requirements.

Dated: April 26, 2007.
Lois Rossi,
Director, Registration Division, Office of Pesticide Programs.

[FR Doc. E7-8945 Filed 5-8-07; 8:45 am]

BILLING CODE 6560-50-S